DEPARTMENT OF THE INTERIOR

National Park Service

[NPS-WASO-NAGPRA-NPS0027141; PPWOCRADN0-PCU00RP14.R50000]

Notice of Inventory Completion: U.S. Fish and Wildlife Service, Anchorage, AK and the University of Alaska Museum of the North, Fairbanks, AK

AGENCY: National Park Service, Interior.

ACTION: Notice.

SUMMARY: The Alaska Region, U.S. Fish and Wildlife Service, and the University of Alaska Museum of the North have completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Alaska Region, U.S. Fish and Wildlife Service and the University of Alaska Museum of the North. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Alaska Region, U.S. Fish and Wildlife Service and the University of Alaska Museum of the North at the address in this notice by March 6, 2019.

ADDRESSES: Edward J. DeCleva, Regional Historic Preservation Officer/Archaeologist, U.S. Fish and Wildlife Service, 1011 East Tudor Road, MS-235, Anchorage, AK 99503, telephone (907) 786-3399, email edward_decleva@fws.gov and Dr. Joshua Reuther, Curator of Archaeology, University of Alaska Museum of the North, 1962 Yukon Drive, Fairbanks, AK 99775, telephone (907) 474-6945, email jreuther@alaska.edu.

SUPPLEMENTARY INFORMATION: Notice is here given in accordance with the Native American Graves Protection and Repatriation Act (NAGPRA), 25 U.S.C. 3003, of the completion of an inventory of human remains and associated funerary objects under the control of the U.S. Fish and Wildlife Service (USFWS) and housed at the University of Alaska Museum of the North. The human remains and associated funerary objects were removed from the Port Moller Hot Springs Village archeological site (XPM-00001), Aleutians East Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region, USFWS, and the University of Alaska Museum of the North professional staff, in consultation with representatives of the Agdaagux Tribe of King Cove; Chignik Bay Tribal Council (previously listed as the Native Village of Chignik); Chignik Lake Village; Ivanoff Bay Tribe (previously listed as the Ivanoff Bay Tribe and the Ivanoff Bay Village); Native Village of Belkofski; Native Village of Chignik Lagoon; Native Village of False Pass; Native Village of Nelson Lagoon; Native Village of Perryville; Native Village of Port Heiden; Native Village of Unga; Pauloff Harbor Village; Qagan Tayagungin Tribe of Sand Point Village; and the Aleut Corporation (hereafter referred to as “The Consulting Tribes”).

History and Description of the Remains

In 1960, 1972, 1974, 1982, and 1984, human remains representing, at minimum, 35 individuals were removed from Port Moller Hot Springs Village archeological site (XPM-00001) near Port Moller on the Alaska Peninsula partially within the boundary of the Alaska Peninsula National Wildlife Refuge, AK. Professional archeological excavations were carried out at the site as early as 1928 and most recently in 2014. Excavations were carried out at the site in 1960 by Chester S. Chard of the University of Wisconsin and Sosuke Sugihara of Meiji University in Japan. Large-scale excavation occurred at the site multiple times throughout the 1970s and 1980s by Hiroaki Okada, an archeologist at Hokkaido University in Japan.

At an unknown time, human remains representing, at minimum, four individuals were removed from the Port Moller area by an unknown individual. These human remains are also housed with the 35 individuals from the Port Moller Hot Springs Village archeological excavations.

In the years since being collected, different portions of these human remains have been held at various institutions and locations. Between 2015 and 2017, the U.S. Fish and Wildlife Service consolidated all 39 sets of human remains from the Port Moller Hot Springs Village Site and Port Moller vicinity at the University of Alaska Museum of the North. These human remains, which consist of cranial and post-cranial elements, belong to fourteen juveniles of unknown sex (Burials PM-1, PM-3, PM-5, PM-6, 72-1, 72 Isolate Remains-2, 82-1, 82-4, 82-5, 82-6, 84-1, 84 Isolate Remains-3, Box 5a-2, Box 5a-3), three adult females (Burials PM-2, PM-7, 84-2), seven adult males (Burials PM-4, 72-2, 72-3, 72-4, 82-2, 82-3, 82-7), nine adults of unknown sex (Burial 72-4a, 72 Isolate Remains-1, 74-1, 82-2a, 82-2b, 84 Isolate Remains-1, 84 Isolate Remains-2, Box 5a-1, Individual 5), and six individuals of unknown sex and unknown age (Burials 74-2, 74-3, 74-4, 82-1a, 82-6a, Individual 4). No known individuals were identified. The 217 associated funerary objects are: one bead, six red ochre samples, 127 animal bones, one triangular shale point, seven chipped-stone artifacts, four hammerstones/abraders, three pieces of worked bone or ivory, two bone pins, one carved ornament, one decorated pin, one whale bone adze, one leister prong, two stone points, two slab stones, one sword-like bone stick, three ivory pendants, eight buttons, five metal objects, one lot of beads and buttons, one length of braided hair, one lot of cloth and leather fragments, 30 leather fragments, one soil sample, and seven pieces of pottery.

The occupation of the Port Moller Hot Springs Village site has been divided into three phases: (1) Around 600 years BP, (2) around 1500 years BP, and (3) around 3000-3500 years BP. The 24 individuals removed from the site in 1960, 1972, 1974, and 1984 have been associated with the later period of occupation, or from approximately 600-1500 years BP. The 11 individuals removed from the site in 1982 are associated with a radiocarbon date from the oldest occupation at the site. Of the four individuals removed from the Port Moller area, three are associated with artifacts indicating a protohistoric or historic age, and one cannot be associated with a date.

The Port Moller region is strategically located at the junction of four important cultural areas: the Aglemiut Eskimo to the northeast, Aleut to the west, the Koniaq Eskimo on Kodiak Island, and the Eskimo of the southwestern interior region of Alaska to the east. Cultural affiliation between the prehistoric populations in the area of the Hot Springs Village site can only be determined through analyses of archeological and human remains, as very little oral history information is known concerning the use of the Port Moller area prior to 1900. Based on the archeological evidence, it is believed that the site is well within the Aleut area of influence, but some archeologists believe that due to the site's strategic location, the culture represented here likely received ideas from several different directions. The burial contexts of the human remains are consistent with those observed for pre-contact Aleut populations; namely, the custom of burying the dead inside compartments of semi-subterranean houses. The physical traits of the human remains have been determined by some as exhibiting a close affinity to the Alaska Eskimo, while others conclude that they represent Paleo-Aleuts. A biological relationship between these human remains and the inhabitants of the Nelson Lagoon area is supported by an ancient DNA study published in 2010.

Determinations Made by the Alaska Region, U.S. Fish and Wildlife Service and the University of Alaska Museum of the North

Officials of the Alaska Region, USFWS, and the University of Alaska Museum of the North have determined that:

• Pursuant to 25 U.S.C. 3001(9), the human remains described in this notice represent the physical remains of 39 individuals of Native American ancestry.

• Pursuant to 25 U.S.C. 3001(3)(A), the 217 objects described in this notice are reasonably believed to have been placed with or near individual human remains at the time of death or later as part of the death rite or ceremony.

• Pursuant to 25 U.S.C. 3001(2), there is a relationship of shared group identity that can be reasonably traced between the Native American human remains and associated funerary objects and the Native Village of Nelson Lagoon.

Additional Requestors and Disposition

Lineal descendants or representatives of any Indian Tribe or Native Hawaiian organization not identified in this notice that wish to request transfer of control of these human remains and associated funerary objects should submit a written request with information in support of the request to Edward DeCleva, Regional Historic Preservation Officer/Archaeologist, U.S. Fish and Wildlife Service, Alaska Region, 1011 East Tudor Road, MS-235, Anchorage, AK 99013, telephone (907) 786-3399, email edward_decleva@fws.gov, and Dr. Joshua D. Reuther, Curator of Archaeology, University of Alaska Museum of the North, 907 Yukon Drive, Fairbanks, AK 99775, telephone (907) 474-6945, email jreuther@alaska.edu, by March 6, 2019. After that date, if no additional requestors have come forward, transfer of control of the human remains and associated funerary objects to the Native Village of Nelson Lagoon may proceed.

The Alaska Region, U.S. Fish and Wildlife Service and the University of Alaska Museum of the North is responsible for notifying The Consulting Tribes that this notice has been published.

Dated: December 11, 2018.
Melanie O'Brien,
Manager, National NAGPRA Program.

[FR Doc. 2019-00837 Filed 2-1-19; 8:45 am]

BILLING CODE 4312-52-P